DEPARTMENT OF COMMERCE

National Oceanic and Atmospheric Administration

Evaluation of New Jersey Coastal Management Program; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a virtual public meeting to solicit input on the performance evaluation of the New Jersey Coastal Management Program. NOAA also invites the public to submit written comments.

DATES: NOAA will hold a virtual public meeting on Tuesday, September 19, 2023, at 3 p.m. Eastern Daylight Time (EDT). NOAA may close the meeting 15 minutes after the conclusion of public testimony and after responding to any clarifying questions from hearing participants. NOAA will consider all relevant written comments received by Friday, September 29, 2023.

ADDRESSES: Comments may be submitted by one of the following methods:

• Virtual Public Meeting: Provide oral comments during the virtual public meeting on Tuesday, September 19, 2023, from 3 to 4 p.m. EDT, by registering as a speaker at forms.gle/rfHwqDZRGHndPoia8. Please register by Tuesday, September 19, 2023, at 2 p.m. EDT. Upon registration, NOAA will send a confirmation email. The lineup of speakers will be based on the date and time of registration. One hour prior to the start of the virtual meeting on September 19, 2023, NOAA will send an email to all registered speakers with a link to the public meeting and information about participating.

• Email: Send written comments to Michael Migliori, Evaluator, NOAA Office for Coastal Management, at Michael.Migliori@noaa.gov. Include “Comments on Performance Evaluation of the New Jersey Coastal Management Program” in the subject line of the message.

NOAA will accept anonymous comments; however, the written comments NOAA receives are considered part of the public record, and the entirety of the comment, including the name of the commenter, email address, attachments, and other supporting materials, will be publicly accessible. Sensitive personally identifiable information, such as account numbers and social security numbers, should not be included with the comment. Comments that are not related to the performance evaluation of the New Jersey Coastal Management Program, or that contain profanity, vulgarity, threats, or other inappropriate language will not be considered.

FOR FURTHER INFORMATION CONTACT: Michael Migliori, Evaluator, NOAA Office for Coastal Management, by email at Michael.Migliori@noaa.gov or by phone at (443) 332-8936. Copies of the previous evaluation findings and assessment and strategies may be viewed and downloaded at coast.noaa.gov/czm/evaluations. A copy of the evaluation notification letter and most recent progress report may be obtained upon request by contacting Michael Migliori.

SUPPLEMENTARY INFORMATION: Section 312 of the Coastal Zone Management Act (CZMA) requires NOAA to conduct periodic evaluations of federally approved coastal management programs. The evaluation process includes holding one or more public meetings, considering public comments, and consulting with interested Federal, State, and local agencies and members of the public. During the evaluation, NOAA will consider the extent to which the State of New Jersey has met the national objectives, adhered to the management program approved by the Secretary of Commerce, and adhered to the terms of financial assistance under the CZMA. When the evaluation is complete, NOAA's Office for Coastal Management will place a notice in the Federal Register announcing the availability of the final evaluation findings.

Authority: 16 U.S.C. 1458.

Keelin Kuipers,
Deputy Director, Office for Coastal Management, National Ocean Service, National Oceanic and Atmospheric Administration.

[FR Doc. 2023-16961 Filed 8-7-23; 8:45 am]

BILLING CODE 3510-JE-P